DEPARTMENT OF HEALTH AND HUMAN SERVICES

Agency for Healthcare Research and Quality, Agency Information Collection Activities: Proposed Collection; Comment Request

AGENCY: Agency for Healthcare Research and Quality, HHS.

ACTION: Notice.

SUMMARY: This notice announces the intention of the Agency for Healthcare Research and Quality (AHRQ) to request the Office of Management and Budget (OMB) to grant a “Voluntary Customer Satisfaction Survey Generic Clearance for the Agency for Healthcare Research and Quality.” In accordance with the Paperwork Reduction Act as amended (see in particular 44 U.S.C. 3506(c)(2)(A)), AHRQ invites the public to comment on this proposed information collection request to allow AHRQ to conduct these customer satisfaction surveys.

This proposed information collection was previously published in the Federal Register on May 16, 2001 and allowed 60 days for public comment. No public comments were received. The purpose of this notice is to allow an additional 30 days for public comment.

DATES: Comments on this notice must be received by August 30, 2001.

ADDRESSES: Written comments should be submitted to: Allison Eydt, Human Resources and Housing Branch, Office of Information and Regulatory Affairs, OMB: New Executive Office Building, Room 10235; Washington, DC 20503.

Comments submitted in response to this notice will be summarized and included in the request for OMB approval of the proposed information collection. All comments will become a matter of public record.

FOR FURTHER INFORMATION CONTACT: Cynthia D. McMichael, AHRQ, Reports Clearance Officer, (301) 594-3132.

SUPPLEMENTARY INFORMATION:

Proposed Project

Voluntary Customer Satisfaction Survey Generic Clearance for the Agency for Healthcare Research and Quality.

In response to Executive Order 12862, the Agency for Healthcare Research and Quality (AHRQ) plans to conduct voluntary customer satisfaction surveys to assess strengths and weaknesses in program services. Customer satisfaction surveys to be conducted by AHRQ may include readership surveys from individuals using AHRQ automated and electronic technology data bases to determine satisfaction with the information provided or surveys to assess effects of the grants streamlining efforts. Results of these surveys will be used in future program planning initiatives and to redirect resources and efforts, as needed, to improve AHRQ program services. The current clearance will expire December 31, 2001. A generic approval will be requested from OMB to conduct customer satisfaction surveys over the next three years.

Method of Collection

The data will be collected using a combination of preferred methodologies appropriate to each survey. These methodologies are:

• Evaluation forms;

• Mail surveys;

• Focus groups;

• Automated and electronic technology (e.g., instant fax, on-line, feedback forms for AHRQ Clearinghouse Publications); and

• Telephone surveys.

The estimated annual hour burden is as follows:

Type of survey | Number of respondents | Average burden response (hours per respondent) | Total hours of burden
Mail/Telephone Surveys | 51,200 | .15 | 7,693
Automated/Web-based | 52,000 | .164 | 8501
Focus Groups | 200 | 1.0 | 200
Totals | 103,400 | .159 | 16,394

Request for Comments

Comments are invited on: (a) The necessity of the proposed collections; (b) the accuracy of the Agency's estimate of burden (including hours and cost) of the proposed collection of information; (c) ways to enhance the quality, utility and clarity of the information to be collected; and (d) ways to minimize the burden of the collection of information upon the respondents, including the use of automated collection techniques or other forms of information technology.

Comments submitted in response to this notice will be summarized and included in the request for OMB approval of the proposed information collection. All comments will become a matter of public record.

Copies of these proposed collection plans and instruments can be obtained from the AHRQ Reports Clearance Officer (see above).

Dated: July 24, 2001.
John M. Eisenberg,
Director.

[FR Doc. 01-19054 Filed 7-30-01; 8:45 am]

BILLING CODE 4160-90-M